DEPARTMENT OF THE INTERIOR

National Park Service

[NPS-WASO-NAGPRA-NPS0039253; PPWOCRADN0-PCU00RP14.R50000]

Notice of Intended Disposition: U.S. Department of Agriculture, Forest Service, Santa Fe National Forest, Santa Fe, NM

AGENCY: National Park Service, Interior.

ACTION: Notice.

SUMMARY: In accordance with the Native American Graves Protection and Repatriation Act (NAGPRA), the U.S. Department of Agriculture, Forest Service, Santa Fe National Forest (Forest Service), intends to carry out the disposition of human remains removed from Federal or Tribal lands to the lineal descendants, Indian Tribe, or Native Hawaiian organization with priority for disposition in this notice.

DATES: Disposition of the human remains in this notice may occur on or after January 29, 2025. If no claim for disposition is received by December 30, 2025, the human remains in this notice will become unclaimed human remains.

ADDRESSES: Kathryn Turner, U.S. Forest Service, Santa Fe National Forest, 11 Forest Lane, Santa Fe, NM 87508, telephone (505) 438-5380, email kathryn.turner@usda.gov.

SUPPLEMENTARY INFORMATION: This notice is published as part of the National Park Service's administrative responsibilities under NAGPRA. The determinations in this notice are the sole responsibility of the Forest Service and additional information on the human remains or cultural items in this notice, including the results of consultation, can be found in the related records. The National Park Service is not responsible for the identifications in this notice.

Abstract of Information Available

Based on the information available, human remains representing, at least, two individuals have been reasonably identified. No associated funerary objects are present.

On August 8, 2006, human remains representing two individuals were recovered from Forest Service site 03-10-02-01363/LA 90334 during excavations undertaken by the U.S. Forest Service when they were found eroding from the site during a wildfire. The individuals were sent to the University of Oregon for analysis shortly thereafter and later returned to the Santa Fe National. There are no known associated funerary objects.

Site 03-10-02-01363/LA 90334 is located within the Cuba Ranger District, Santa Fe National Forest, Rio Arriba County, NM. The site is located on a north to south trending ridge north of Forest Road 313 and consists of two features, a unit house and an undefined rock alignment which may have been a terrace. The artifact assemblage numbers in the thousands and is comprised of pottery sherds and flaked and ground stone. Diagnostic pottery types documented include Gallina Black-on-gray, Red Mesa Black-on-white, and utility wares. Flaked stone includes chert and obsidian. Ground stone present includes several manos. The structure type and presence of Gallina Black-on-gray pottery suggests that this site was occupied by the Gallina from A.D. 1100 to A.D. 1300.

Determinations

The U.S. Forest Service has determined that:

• The human remains described in this notice represent the physical remains of two individuals of Native American ancestry.

• Based on geographic location the Hopi Tribe of Arizona; Jicarilla Apache Nation, New Mexico; Mescalero Apache Tribe of the Mescalero Reservation, New Mexico; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Southern Ute Indian Tribe of the Southern Ute Reservation, Colorado; Ute Mountain Ute Tribe; and the Zuni Tribe of the Zuni Reservation, New Mexico has priority for disposition of the human remains or cultural item described in this notice.

Claims for Disposition

Written claims for disposition of the human remains in this notice must be sent to the appropriate official identified in this notice under ADDRESSES. If no claim for disposition is received by December 30, 2025, the human remains or cultural items in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after January 29, 2025. If competing claims for disposition are received, the Forest Service must determine the most appropriate claimant prior to disposition. Requests for joint disposition of the human remains are considered a single request and not competing requests. The Forest Service is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 19, 2024.
Melanie O'Brien,
Manager, National NAGPRA Program.

[FR Doc. 2024-31290 Filed 12-27-24; 8:45 am]

BILLING CODE 4312-52-P